DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Assessing the Feasibility of Disseminating Effective Health Center Products through Mobile Phone Applications.” In accordance with the Paperwork Reduction Act, 44 U.S.C. 3501-3521, AHRQ invites the public to comment on this proposed information collection.

This proposed information collection was previously published in the Federal Register on November 15th, 2011 and allowed 60 days for public comment. No comments were received. The purpose of this notice is to allow an additional 30 days for public comment.

DATES: Comments on this notice must be received by February 27, 2012.

ADDRESSES: Written comments should be submitted to: AHRQ's OMB Desk Officer by fax at (202) 395-6974 (attention: AHRQ's desk officer) or by email at OIRA_submission@omb.eop.gov (attention: AHRQ's desk officer).

Copies of the proposed collection plans, data collection instruments, and specific details on the estimated burden can be obtained from the AHRQ Reports Clearance Officer.

FOR FURTHER INFORMATION CONTACT: Doris Lefkowitz, AHRQ Reports Clearance Officer, (301) 427-1477, or by email at doris.lefkowitz@AHRO.hhs.gov.

SUPPLEMENTARY INFORMATION:

Proposed Project

Assessing the Feasibility of Disseminating Effective Health Center Products Through Mobile Phone Applications

The Agency for Healthcare Research and Quality (AHRQ) requests that the Office of Management and Budget (OMB) approve, under the Paperwork Reduction Act of 1995, this collection of information from users of work products and services initiated by the John M. Eisenberg Clinical Decisions and Communications Science Center (Eisenberg Center).

AHRQ is the lead agency charged with supporting research designed to improve the quality of healthcare, reduce its cost, improve patient safety, decrease medical errors, and broaden access to essential services. AHRQ's Eisenberg Center's mission is improving communication of findings to a variety of audiences (“customers”), including consumers, clinicians, and health care policy makers. The Eisenberg Center compiles research results into useful formats for customer stakeholders. The Eisenberg Center also conducts investigations into effective communication of research findings in order to improve the usability and rapid incorporation of findings into medical practice. The Eisenberg Center is one of three components of AHRQ's Effective Health Care (EHC) Program. The collections proposed under this clearance include activities to assess the feasibility of using specific media and awareness-raising processes to encourage consumers who are at risk for selected health problems for which EHC Program materials are available to access information about such materials using mobile phone technologies. The project will specifically focus on promoting awareness of eight consumer guides developed through the EHC Program. The guides are all published in English and Spanish-language versions. All of the guides are designed to help decision makers, including clinicians and health care consumers, use research evidence to maximize the benefits of health care, minimize harm, and optimize the use of health care resources.

The project will test the feasibility of using mobile telephone technology for the dissemination of EHC Program materials to underserved health consumer populations using: (a) Short message services (SMS), usually referred to as texting, that can be provided to people with basic cell phone service and texting support; and (b) mobile Web access that provides access to the Internet via a mobile interface.

Different methods and/or vehicles will be used to promote awareness of opportunities to obtain cell phone- or smart phone-based information about the availability of EHC Program materials including: (1) Wall posters in patient service areas of the three (3) participating clinics; (2) flyers about the products distributed in magazine racks and through patient kiosks in some areas of the clinics; (3) flyers/announcements given to patients at checkout from the clinic; and (4) health fairs convened to address general health issues, where the information can be provided. Promotional materials will invite potential users to send a specific text message with the keyword associated with the relevant health condition to the advertised number. Subjects will receive a response text with a brief message about the condition and an invitation to either (a) request a printed consumer guide or (b) access the mobile Web site to view the guide.

This project has the following goals:

(1) Summarize marketing efforts in terms of total numbers of posters, flyers, and information sheets distributed through specific venues (e.g., patient waiting areas, patient check-out processes) and numbers of individuals contacted through health fairs and related activities;

(2) Summarize the extent to which persons in targeted patient populations responded to marketing efforts;

(3) Assess patient satisfaction with: (a) The means by which patients were alerted as to the availability of EHC Program materials; (b) the methods patients used to request and access the EHC Program materials; and (c) the value and relevancy of the information that they obtained;

(4) Characterize perceptions of clinical care providers and clinical staff persons in terms of: (a) The value of efforts to promote patient awareness of EHC Program materials using marketing techniques described in this feasibility project; and (b) the effect of these efforts on workflow issues and related aspects of clinic operations.

This study is being conducted by AHRQ through its contractor, the Eisenberg Center—Baylor College of Medicine, pursuant to AHRQ's statutory authority to conduct and support research, and disseminate information, on healthcare and on systems for the delivery of such care, including activities with respect to both the quality, effectiveness, efficiency, appropriateness and value of healthcare services and clinical practice. 42 U.S.C. 299a(a)(1) and (4).

Method of Collection

To achieve the goals of this project the following data collections will be implemented:

(1) Focus Groups with Clinicians. A focus group will be conducted at each of the three participating clinics during regularly scheduled internal clinic meetings, to determine how the introduction of marketing materials and related resources influenced, if at all, delivery of care in the clinical settings. Special emphasis will be placed on determining if introduction of the project materials changed the ways in which patients interacted with clinicians. It is expected that each focus group will include no more than 10 clinical professionals (e.g., physicians, physician assistants, nurses and nurse practitioners, pharmacists).

(2) Focus Groups with Support Staff. A focus group will be conducted with support staff working in each of the three participating clinics, during regularly scheduled meetings, to determine if the introduction of the project materials altered clinic workflows. It is expected that each focus group will include no more than 12 support staff (e.g., receptionists, nursing assistants, other personnel who interact with patients).

(3) Patient Interviews. In-person interviews conducted immediately after the patient exits the clinic will be used to determine if patients: (a) Saw and understood the marketing materials (e.g., posters and flyers) in clinic settings; (b) were encouraged by the marketing materials to text and request information about their health issue(s); (c) could identify specific reasons why they did or did not text; and (d) have suggestions about how marketing materials might be changed so that they would be more likely to encourage patients like themselves to text.

(4) Feedback Questionnaire for Patients Requesting Mailed Guides. All persons that respond to the marketing materials by requesting any of the eight guides to be mailed to them will be asked to complete a brief paper questionnaire included with the guides. The purpose of the questionnaire is to assess the extent to which the guides were easy to read and understand, whether the guides provided the information they sought, and any suggestions for improving and delivering the guides.

(5) Feedback Questionnaire for Patients Visiting the Mobile Web Site. All persons that access the guides via the mobile Web site will be asked to complete a brief online questionnaire. Only subjects exposed to the promotion materials will receive the address of the mobile Web site during the text message conversation, and therefore we expect no other individuals to visit this site. The purpose of the questionnaire is to determine if the guides were useful, the mobile Web site was easy to use, whether they found the information they needed and experienced any difficulty in accessing the guides through their cell phone.

(6) Usage Log Data. Data from automated electronic log systems will be collected from two sources: (1) Mobile Commons, the contractor that manages the cell phone-related message delivery and cell phone-based communication; and (2) the Eisenberg Center at Baylor College of Medicine that manages the EHC Web site visits. Usage log data gathered from the cell phone service contractor will include: (1) Counts of text messages received from persons requesting information about consumer guides; (2) the distribution of message counts across originating clinics tracked through the use of distinctive call-in or short code numbers assigned to each clinic; and (3) the numbers and originating clinic-specific distributions of follow-up texts Because text communications will be date and time stamped, Eisenberg Center staff will be able to calculate mean durations in time from receipt of the initial messages and follow-ups, which may be useful in determining navigation patterns and suggesting connectivity barriers. Usage log data gathered from the mobile Web site will allow for identification of: (1) The number of visitors that originate from a specific uniform record locator (URL) associated with each clinic; (2) the duration of visits to the EHC Web site to gather desired information and explore other resources available through the Web site; (3) the number of pages viewed by each visitor; and (4) the number of downloads of the full report associated with each guide, which will also be made available. These data will be obtained using automated systems already in place, and no special effort will be needed to generate these data; this task is not included in the burden estimates in Exhibit 1 below.

The Eisenberg Center will determine the feasibility of this approach to encouraging patients and anyone else viewing the marketing materials to access information that may be helpful to them in understanding health care choices and engaging more fully in their own health care, and whether this approach should be pursued further. This information will be used to determine the feasibility of: (a) Mounting broader efforts to distribute consumer guides, as well as other EHC Program products, using mobile technologies as tools to heighten awareness of these resources by potential users who rely on mobile communication devices for information access; and (b) initiating additional studies to identify factors that encourage or deter effective use of increasingly pervasive communication modalities (e.g., cell phones, smart phones) in communicating with care providers and others and to access information from the Internet and health-related Web sites.

Estimated Annual Respondent Burden

Exhibit 1 shows the estimated annualized burden for the respondents' time to participate in this research. Focus groups will be conducted with about 10 clinicians per each of the 3 participating clinics (30 total) and about 12 clinical support staff per clinic (36 total), and will last 45 minutes. Interviews will be conducted with about 100 patients per clinic (300 total) upon exit from the clinical visit, with each interview lasting about 15 minutes. The Feedback Questionnaire for the Mailed Guides will be completed by approximately 200 persons and will take 10 minutes to complete and the Feedback Questionnaire for the Mobile site will be completed by about 200 persons and also requires 10 minutes to complete. The total annual burden is estimated to be 191 hours. Exhibit 2 shows the estimated annualized cost burden associated with the respondent's time to participate in this research. The total annual cost burden is estimated to be $5,320.

Exhibit 1—Estimated Annualized Total Burden Hours
Type of data collection | Number of respondents per respondent | Number of responses | Hours per response | Total burden hours
Focus Groups with Clinicians | 30 | 1 | 45/60 | 23
Focus Groups with Support Staff | 36 | 1 | 45/60 | 27
Patient Interviews | 300 | 1 | 15/60 | 75
Feedback Questionnaire for Patients Requesting Mailed Guides | 200 | 1 | 10/60 | 33
Feedback Questionnaire for Patients Visiting Mobile Web site | 200 | 1 | 10/60 | 33
Total | 766 | na | na | 191

Exhibit 2—Estimated Annualized Total Cost Burden
Type of data collection | Number of respondents | Total burden hours | Average hourly wage rate * | Total cost burden
Focus Groups with Clinicians | 30 | 23 | $83.59 | $1,923
Focus Groups with Support Staff | 36 | 27 | 14.31 | 386
Patient Interviews | 300 | 75 | 21.35 | 1,601
Feedback Questionnaire for Patients Requesting Mailed Guides | 200 | 33 | 21.35 | 705
Feedback Questionnaire for Patients Visiting Mobile Web site | 200 | 33 | 21.35 | 705
Total | 766 | 191 | na | 5,320
* Based upon the mean wages for clinicians (29-1062 family and general practitioners), clinical team members (31-9092 medical assistants) and consumers (00-0000 all occupations), National Compensation Survey: Occupational wages in the United States May 2010, “U.S. Department of Labor, Bureau of Labor Statistics.”

Estimated Annual Costs to the Federal Government

The maximum cost to the Federal Government is estimated to be $203,531 annually. Exhibit 3 shows the total and annualized cost by the major cost components.

Exhibit 3—Estimated Total and Annualized Cost
Cost component | Total cost | Annualized cost
Project Development | $146,175 | $73,088
Data Collection Activities | 85,425 | 42,713
Data Processing and Analysis | 65,375 | 32,688
Project Management | 47,588 | 23,794
Overhead | 62,500 | 31,250
Total | 407,063 | 203,531

Request for Comments

In accordance with the Paperwork Reduction Act, comments on AHRQ's information collection are requested with regard to any of the following: (a) Whether the proposed collection of information is necessary for the proper performance of AHRQ healthcare research and healthcare information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: January 17, 2012.
Carolyn M. Clancy,
Director.

[FR Doc. 2012-1402 Filed 1-25-12; 8:45 am]

BILLING CODE 4160-90-M